NUCLEAR REGULATORY COMMISSION

[NRC-2015-0194]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from July 23, 2015, to August 5, 2015. The last biweekly notice was published on August 4, 2015.

DATES: Comments must be filed by September 17, 2015. A request for a hearing must be filed by October 19, 2015.

ADDRESSES: You may submit comments by any of the following methods (unless this document describes a different method for submitting comments on a specific subject):

• Federal Rulemaking Web site: Go to http://www.regulations.gov and search for Docket ID NRC-2015-0194. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Sandra Figueroa, Office of Nuclear Reactor Regulation, U.S. Nuclear Regulatory Commission, Washington DC 20555-0001; telephone: 301-415-1262, email: Sandra.Figueroa@nrc.gov.

SUPPLEMENTARY INFORMATION:

I. Obtaining Information and Submitting Comments

A. Obtaining Information

Please refer to Docket ID NRC-2015-0194 when contacting the NRC about the availability of information for this action. You may obtain publicly-available information related to this action by any of the following methods:

• Federal Rulemaking Web site: Go to http://www.regulations.gov and search for Docket ID NRC-2015-0194.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0194, facility name, unit number(s), application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in section 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Duke Energy Carolinas, LLC, Docket Nos. 50-269, 50-270, and 50-287, Oconee Nuclear Station, Units 1, 2, and 3 (ONS), Oconee County, South Carolina

Date of amendment request: June 23, 2015. A publicly-available version is in ADAMS under Accession No. ML15183A060.

Description of amendment request: The amendment would involve upgrading the ONS, Emergency Action Levels based on NEI 99-01, Revision 6, “Development of Emergency Action Levels for Non-Passive Reactors.” Pursuant to 10 CFR part 50, appendix E, section IV.B, Duke Energy requested NRC approval of this proposed change to the ONS Emergency Plan prior to implementation.

Basis for proposed no significant hazards consideration determination: As required by 10 CFR 50.91(a), the licensee has provided its analysis of the issue of no significant hazards consideration, which is presented below:

1. Does the proposed amendment involve a significant increase in the probability or consequences of an accident previously evaluated?

Response: No.

These changes affect the ONS Emergency Plan and do not alter the requirements of the Operating License or the Technical Specifications. The proposed changes do not modify plant equipment and do not impact failure modes that could lead to an accident. Additionally, the proposed changes do not impact the consequence of an analyzed accident since the changes do not affect equipment related to accident mitigation.

Based on this discussion, the proposed amendment does not increase the probability or consequences of an accident previously evaluated.

2. Does the proposed amendment [create the possibility of a new or different kind of accident from any accident previously evaluated]?

Response: No.

These changes affect the ONS Emergency Plan and do not alter the requirements of the Operating License or the Technical Specifications. They do not modify plant equipment and there is no impact on the capability of the existing equipment to perform their intended functions. No system setpoints are being modified and no changes are being made to the method in which plant operations are conducted. No new failure modes are introduced by the proposed changes. The proposed amendment does not introduce an accident initiator or malfunction that would cause a new or different kind of accident.

Therefore, the proposed amendment does not create the possibility of a new or different kind of accident from an accident previously evaluated.

3. Does the proposed change involve a significant reduction in a margin of safety?

Response: No.

These changes affect the ONS Emergency Plan and do not alter the requirements of the Operating License or the Technical Specifications. The proposed changes do not affect the assumptions used in the accident analysis, nor do they affect the operability requirements for equipment important to plant safety.

Therefore, the proposed changes will not result in a significant reduction in the margin of safety as defined in the bases for technical specifications covered in this license amendment request.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 550 South Tryon Street—DEC45A, Charlotte, NC 28202-1802.

NRC Branch Chief: Robert J. Pascarelli.

Duke Energy Progress, Inc., Docket Nos. 50-325 and 50-324; Brunswick Steam Electric Plant, Unit Nos. 1 and 2, Brunswick County, North Carolina; Docket No. 50-400; Shearon Harris Nuclear Power Plant, Unit 1, Wake County, North Carolina; Duke Energy Carolinas, LLC, Docket Nos. 50-413 and 50-414, Catawba Nuclear Station, Units 1 and 2, York County, South Carolina; Docket Nos. 50-369 and 50-370, McGuire Nuclear Station, Units 1 and 2, Mecklenburg County, North Carolina; and Docket Nos. 50-269, 50-270, and 50-287, Oconee Nuclear Station, Units 1, 2, and 3, Oconee County, South Carolina

Date of amendment request: June 24, 2015. A publicly-available version is in ADAMS under Accession No. ML15175A438.

Description of amendment request: The proposed change revises or adds Surveillance Requirements to verify that the system locations susceptible to gas accumulation are sufficiently filled with water and to provide allowances which permit performance of the verification. The changes are being made to address the concerns discussed in NRC Generic Letter 2008-01, “Managing Gas Accumulation in Emergency Core Cooling, Decay Heat Removal, and Containment Spray Systems” (ADAMS Accession No. ML072910759). The proposed amendment references TSTF-523, Revision 2, “Generic Letter 2008-01, Managing Gas Accumulation” (79 FR 2700; January 15, 2014).

Basis for proposed no significant hazards consideration determination: As required by 10 CFR 50.91(a), the licensee has provided its analysis of the issue of no significant hazards consideration, which is presented below:

1. Does the proposed change involve a significant increase in the probability or consequences of an accident previously evaluated?

Response: No.

The proposed change revises or adds Surveillance Requirement(s) (SRs) that require verification that the Emergency Core Cooling System (ECCS), the Decay Heat Removal (DHR)/Residual Heat Removal (RHR) System, the Containment Spray/Reactor Building Spray System, and the Reactor Core Isolation Cooling (RCIC) System are not rendered inoperable due to accumulated gas and to provide allowances which permit performance of the revised verification. Gas accumulation in the subject systems is not an initiator of any accident previously evaluated. As a result, the probability of any accident previously evaluated is not significantly increased. The proposed SRs ensure that the subject systems continue to be capable to perform their assumed safety function and are not rendered inoperable due to gas accumulation. Thus, the consequences of any accident previously evaluated are not significantly increased.

Therefore, the proposed change does not involve a significant increase in the probability or consequences of an accident previously evaluated.

2. Does the proposed change create the possibility of a new or different kind of accident from any accident previously evaluated?

Response: No.

The proposed change revises or adds SRs that require verification that the ECCS, the DHR/RHR System, the Containment Spray/Reactor Building Spray System, and the RCIC System are not rendered inoperable due to accumulated gas and to provide allowances which permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed change involve a significant reduction in a margin of safety?

Response: No.

The proposed change revises or adds SRs that require verification that the ECCS, the DHR/RHR System, the Containment Spray/Reactor Building Spray System, and the RCIC System are not rendered inoperable due to accumulated gas and to provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis. Therefore, there are no changes being made to any safety analysis assumptions, safety limits or limiting safety system settings that would adversely affect plant safety as a result of the proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 550 South Tryon Street—DEC45A, Charlotte, NC 28202-1802.

NRC Branch Chiefs: Robert J. Pascarelli and Shana Helton.

Luminant Generation Company LLC, Docket Nos. 50-445 and 50-446, Comanche Peak Nuclear Power Plant, Units 1 and 2 (CPNPP), Somervell County, Texas

Date of amendment request: June 30, 2015. A publicly-available version is in ADAMS under Accession No. ML15191A175.

Description of amendment request: The amendment involves upgrading selected CPNPP Emergency Action Levels (EALs) based on Nuclear Energy Institute (NEI) 99-01, Revision 6, “Development of Emergency Action Levels for Non-Passive Reactors,” dated November 2012 (ADAMS Accession No. ML12326A805), using the guidance of NRC Regulatory Issue Summary 2003-18, Supplement 2, “Use of NEI 99-01, Methodology for Development of EALs,” dated December 12, 2005 (ADAMS Accession No. ML051450482).

Basis for proposed no significant hazards consideration determination: As required by 10 CFR 50.91(a), the licensee has provided its analysis of the issue of no significant hazards consideration, which is presented below:

1. Does the proposed amendment involve a significant increase in the probability or consequences of an accident previously evaluated?

Response: No.

These changes affect the CPNPP Emergency Plan and do not alter any of the requirements of the Operating License or the Technical Specifications. The proposed changes do not modify any plant equipment and do not impact any failure modes that could lead to an accident. Additionally, the proposed changes do not impact the consequence of any analyzed accident since the changes do not affect any equipment related to accident mitigation.

Based on this discussion, the proposed amendment does not increase the probability or consequences of an accident previously evaluated.

2. Does the proposed amendment create the possibility of a new or different kind of accident from any accident previously evaluated?

Response: No.

These changes affect the CPNPP Emergency Plan and do not alter any of the requirements of the Operating License or the Technical Specifications. They do not modify any plant equipment and there is no impact on the capability of the existing equipment to perform their intended functions. No system setpoints are being modified and no changes are being made to the method in which plant operations are conducted. No new failure modes are introduced by the proposed changes. The proposed amendment does not introduce accident initiators or malfunctions that would cause a new or different kind of accident.

Therefore, the proposed amendment does not create the possibility of a new or different kind of accident from any accident previously evaluated.

3. Does the proposed amendment involve a significant reduction in a margin of safety?

Response: No.

These changes affect the CPNPP Emergency Plan and do not alter any of the requirements of the Operating License or the Technical Specifications. The proposed changes do not affect any of the assumptions used in the accident analysis, nor do they affect any operability requirements for equipment important to plant safety.

Therefore, the proposed changes will not result in a significant reduction in the margin of safety as defined in the bases for technical specifications covered in this license amendment request.

The NRC staff has reviewed the licensee's analysis and, based on this review, it appears that the three standards of 10 CFR 50.92(c) are satisfied. Therefore, the NRC staff proposes to determine that the amendment request involves no significant hazards consideration.

Attorney for licensee: Timothy P. Matthews, Esq., Morgan, Lewis and Bockius, 1111 Pennsylvania Avenue NW., Washington, DC 20004.

NRC Branch Chief: Michael T. Markley.

South Carolina Electric & Gas Company, South Carolina Public Service Authority, Docket No. 50-395, Virgil C. Summer Nuclear Station, Unit No. 1, Fairfield County, South Carolina

Date of amendment request: July 22, 2015. A publicly-available version is in ADAMS Accession No. ML15205A291.

Description of amendment request: The licensee proposes to revise Technical Specification Section 6.0, “Administrative Controls” by changing the “Shift Supervisor” title to “Shift Manager.”

Basis for proposed no significant hazards consideration determination: As required by 10 CFR 50.91(a), the licensee has provided its analysis of the issue of no significant hazards consideration, which is presented below:

1. Does the proposed change involve a significant increase in the probability or consequences of an accident previously evaluated?

Response: No.

The proposed changes to the Technical Specifications (TS) regarding Shift Supervisor to Shift Manager are administrative changes. It has no impact on accident initiators or plant equipment and thus does not affect the probability or consequences of an accident.

2. Does the proposed change create the possibility of a new or different kind of accident from any accident previously evaluated?

Response: No.

The proposed change does not involve a change to the physical plant or operations. This is an administrative title change that does not contribute to accident initiation. Therefore, it does not produce a new accident scenario or produce a new type of equipment malfunction.

3. Does the proposed change involve a significant reduction in a margin of safety?

Response: No.

Since the change is administrative and changes no previously evaluated accidents or creates no possibility for any new unevaluated accidents to occur, there is no reduction in the margin of safety. This change also does not affect plant equipment or operation and therefore does not affect safety limits or limiting safety systems settings.

The NRC staff has reviewed the licensee's analysis and, based on this review, it appears that the three standards of 10 CFR 50.92(c) are satisfied. Therefore, the NRC staff proposes to determine that the amendment request involves no significant hazards consideration.

Attorney for licensee: J. Hagood Hamilton, Jr., South Carolina Electric & Gas Company, Post Office Box 764, Columbia, South Carolina 29218.

NRC Branch Chief: Robert J. Pascarelli.

STP Nuclear Operating Company, Docket Nos. 50-498 and 50-499, South Texas Project (STP), Units 1 and 2, Matagorda County, Texas

Date of amendment request: April 29, 2015, as supplemented by letter dated June 29, 2015. Publicly-available versions are in ADAMS under Accession Nos. ML15128A352 and ML15198A147, respectively.

Description of amendment request: The amendment would revise the Integrated Leak Rate Test performance interval from 10 years to 15 years in Technical Specification (TS) 3.8.3.j, “Containment Leakage Rate Testing Program,” in accordance with Nuclear Energy Institute 94-01, Revision 2A, “Industry Guideline for Implementing Performance-Based Option of 10 CFR part 50, appendix J,” dated October 2008 (ADAMS Accession No. ML100620847).

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment to the TS involves the extension of the STP, Units 1 and 2 Type A containment test interval to 15 years. The current Type A test interval of 120 months (10 years) would be extended on a permanent basis to no longer than 15 years from the last Type A test. Extensions of up to nine months (total maximum interval of 189 months for Type A tests) are permissible only for non-routine emergent conditions. The proposed extension does not involve either a physical change to the plant or a change in the manner in which the plant is operated or controlled. The containment is designed to provide an essentially leak tight barrier against the uncontrolled release of radioactivity to the environment for postulated accidents. As such, the containment and the testing requirements invoked to periodically demonstrate the integrity of the containment exist to ensure the plant's ability to mitigate the consequences of an accident, and do not involve the prevention or identification of any precursors of an accident. The change in dose risk for changing the Type A test frequency from once-per-ten years to once-per-fifteen-years, measured as an increase to the total integrated dose risk for all internal events accident sequences for STP, of 0.123 person [roentgen equivalent man per year (rem/yr)] for Unit 1 and Unit 2 using the [Electric Power Research Institute (EPRI)] guidance with the base case corrosion included. Therefore, this proposed extension does not involve a significant increase in the probability of an accident previously evaluated.

As documented in NUREG-1493, [“Performance-Based Containment Leak-Test Program,” dated January 1995] Type B and C tests have identified a very large percentage of containment leakage paths, and the percentage of containment leakage paths that are detected only by Type A testing is very small. The STP, Units 1 and 2 Type A test history supports this conclusion.

The integrity of the containment is subject to two types of failure mechanisms that can be categorized as: (1) Activity based, and; (2) time based. Activity based failure mechanisms are defined as degradation due to system and/or component modifications or maintenance. Local leak rate test requirements and administrative controls such as configuration management and procedural requirements for system restoration ensure that containment integrity is not degraded by plant modifications or maintenance activities. The design and construction requirements of the containment combined with the containment inspections performed in accordance with ASME Section XI, the Maintenance Rule, and TS requirements serve to provide a high degree of assurance that the containment would not degrade in a manner that is detectable only by a Type A test. Based on the above, the proposed extensions do not significantly increase the consequences of an accident previously evaluated.

The proposed amendment also deletes exceptions previously granted to allow one-time extensions of the ILRT test frequency for both Units 1 and 2. These exceptions were for activities that have already taken place so their deletion is solely an administrative action that has no effect on any component and no impact on how the units are operated.

Therefore, the proposed change does not result in a significant increase in the probability or consequences of an accident previously evaluated.

2. Does the proposed change create the possibility of a new or different kind of accident from any accident previously evaluated?

Response: No.

The proposed amendment to the TS involves the extension of the STP, Unit 1 and 2 Type A containment test interval to 15 years. The containment and the testing requirements to periodically demonstrate the integrity of the containment exist to ensure the plant's ability to mitigate the consequences of an accident do not involve any accident precursors or initiators. The proposed change does not involve a physical change to the plant (i.e., no new or different type of equipment will be installed) or a change to the manner in which the plant is operated or controlled.

The proposed amendment also deletes exceptions previously granted to allow one-time extensions of the ILRT test frequency for both Units 1 and 2. These exceptions were for activities that would have already taken place by the time this amendment is approved; therefore, their deletion is solely an administrative action that does not result in any change in how the units are operated.

Therefore, the proposed change does not create the possibility of a new or different kind of accident from any previously evaluated.

3. Does the proposed change involve a significant reduction in a margin of safety?

Response: No.

The proposed amendment to TS 6.8.3.j involves the extension of the STP, Units 1 and 2 Type A containment test interval to 15 years. This amendment does not alter the manner in which safety limits, limiting safety system set points, or limiting conditions for operation are determined. The specific requirements and conditions of the TS Containment Leak Rate Testing Program exist to ensure that the degree of containment structural integrity and leak-tightness that is considered in the plant safety analysis is maintained. The overall containment leak rate limit specified by TS is maintained.

The proposed change involves only the extension of the interval between Type A containment leak rate tests for STP, Units 1 and 2. The proposed surveillance interval extension is bounded by the 15-year ILRT Interval currently authorized within NEI 94-01, Revision 2-A. Industry experience supports the conclusion that Type B and C testing detects a large percentage of containment leakage paths and that the percentage of containment leakage paths that are detected only by Type A testing is small. The containment inspections performed in accordance with [American Society for Mechanical Engineers (ASME) Boiler and Pressure Vessel Code,] Section Xl, TS and the Maintenance Rule serve to provide a high degree of assurance that the containment would not degrade in a manner that is detectable only by Type A testing. The combination of these factors ensures that the margin of safety in the plant safety analysis is maintained. The design, operation, testing methods and acceptance criteria for Type A, B, and C containment leakage tests specified in applicable codes and standards would continue to be met, with the acceptance of this proposed change, since these are not affected by changes to the Type A and Type C test intervals.

The proposed amendment also deletes exceptions previously granted to allow one-time extensions of the ILRT test frequency for both Units 1 and 2. These exceptions were for activities that would have already taken place by the time this amendment is approved; therefore, their deletion is solely an administrative action and does not change how the units are operated and maintained. Thus, there is no reduction in any margin of safety.

Therefore, the proposed change does not involve a significant reduction in a margin of safety.

The NRC staff has reviewed the licensee's analysis and, based on this review, it appears that the standards of 10 CFR 50.92(c) are satisfied. Therefore, the NRC staff proposes to determine that the request for amendments involves no significant hazards consideration.

NRC Branch Chief: Michael T. Markley.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Susquehanna Nuclear, LLC, Docket Nos. 50-387 and 50-388, Susquehanna Steam Electric Station (SSES), Units 1 and 2, Luzerne County, Pennsylvania

Date of amendment request: August 11, 2014, as supplemented by letters dated April 6, 2015, and July 16, 2015. Publicly-available versions are in ADAMS under Accession Nos. ML14223A780, ML15097A386, and ML15197A256, respectively.

Brief description of amendment request: The amendment proposes changes to SSES, Units 1 and 2, Technical Specification 3.4.10, “RCS [Reactor Coolant System] Pressure and Temperature (P/T) Limits,” which includes revisions to the P/T Limits curves.

Date of publication of individual notice in Federal Register: July 30, 2015 (80 FR 45559).

Expiration date of individual notice: August 31, 2015 (public comments); September 28, 2015 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Dominion Nuclear Connecticut, Inc., Docket No. 50-336, Millstone Power Station, Unit No. 2 (MPS2), New London County, Connecticut

Date of amendment request: June 30, 2014, as supplemented by letter dated January 29, 2015.

Brief description of amendment: The amendment revised the Technical Specifications (TSs) by adopting approved Technical Specification Task Force (TSTF) traveler TSTF-426, Revision 5, “Revise or Add Actions to Preclude Entry into LCO 3.0.3—RITSTF Initiatives 6b and 6c,” and providing a short completion time to restore an inoperable system for conditions under which the previous TS required a plant shutdown. The amendment also reformats each proposed MPS2 custom TS ACTION format to a two-column tabular format.

Date of issuance: July 29, 2015.

Effective date: As of the date of issuance and shall be implemented within 120 days from the date of issuance.

Amendment No.: 321. A publicly-available version is in ADAMS under Accession No. ML15187A326; documents related to this amendment are listed in the Safety Evaluation enclosed with the amendment.

Renewed Facility Operating License No. DPR-65: Amendment revised the Renewed Operating License and TSs.

Date of initial notice in Federal Register: December 23, 2014 (79 FR 77044). The supplemental letter dated January 29, 2015, provided additional information that clarified the application, did not expand the scope of the application as originally noticed, and did not change the staff's original proposed no significant hazards consideration determination as published in the Federal Register.

The Commission's related evaluation of the amendment is contained in a Safety Evaluation dated July 29, 2015.

No significant hazards consideration comments received: No.

Dominion Nuclear Connecticut, Inc., Docket No. 50-423, Millstone Power Station, Unit No. 3, New London County, Connecticut

Date of amendment request: November 6, 2013, as supplemented on November 14, 2014, and February 9, 2015.

Brief description of amendment: The amendment revised Technical Specification (TS) 3/4.5.4, “Refueling Water Storage Tank,” and TS 3/4.6.2.1, “Depressurization and Cooling Systems, Containment Quench Spray System,” to provide additional operational margin for control of the Refueling Water Storage Tank. The amendment also made a clarifying editorial change to the TS 3/4.5.4 action statement.

Date of issuance: July 27, 2015.

Effective date: As of the date of issuance and shall be implemented within 12 days from the date of issuance.

Amendment No.: 262. A publicly-available version is in ADAMS under Accession No. ML15187A011; documents related to this amendment are listed in the Safety Evaluation enclosed with the amendment.

Renewed Facility Operating License No. NPF-49: Amendment revised the Renewed Operating License and TSs.

Date of initial notice in Federal Register: November 25, 2014 (79 FR 70212). The supplemental letters dated November 14, 2014, and February 9, 2015, provided additional information that clarified the application, did not expand the scope of the application as originally noticed, and did not change the staff's original proposed no significant hazards consideration determination as published in the Federal Register.

The Commission's related evaluation of the amendment is contained in a Safety Evaluation dated July 27, 2015.

No significant hazards consideration comments received: No.

Dominion Nuclear Connecticut, Inc., Docket No. 50-423, Millstone Power Station, Unit, No. 3, New London County, Connecticut

Date of amendment request: August 19, 2014, as supplemented on January 26, 2015.

Brief description of amendment: The amendment revised Technical Specification (TS) 3/4.7.1.2, “Auxiliary Feedwater System,” Surveillance Requirement 4.7.1.2.1.b. by replacing the surveillance frequency and acceptance criteria for the Auxiliary Feedwater (AFW) pumps with a reference to the Inservice Testing Program (TS 4.0.5) for the specific pump testing acceptance criteria and the surveillance frequency. The amendment also added information on suitable plant conditions for performance of the steam turbine driven AFW pump surveillance.

Date of issuance: July 28, 2015.

Effective date: As of the date of issuance and shall be implemented within 120 days from the date of issuance.

Amendment No.: 263. A publicly-available version is in ADAMS under Accession No. ML15187A186; documents related to this amendment are listed in the Safety Evaluation enclosed with the amendment.

Renewed Facility Operating License No. NPF-49: Amendment revised the Renewed Operating License and TSs.

Date of initial notice in Federal Register: May 26, 2015 (80 FR 30099).

The Commission's related evaluation of the amendment is contained in a Safety Evaluation dated July 28, 2015.

No significant hazards consideration comments received: No.

Duke Energy Progress, Inc., Docket Nos. 50-325, 50-324, 50-400, Brunswick Steam Electric Plant, Units 1 and 2 (Brunswick), and Shearon Harris Nuclear Power Plant, Unit 1 (Harris), Brunswick, Wake, and Chatham Counties, North Carolina

Date of amendment request: December 22, 2014, as supplemented by letters dated March 4, 2015; June 1, 2015; June 10, 2015; June 24, 2015; and July 29, 2015.

Brief description of amendments: By orders dated July 6, 2015, as published in the Federal Register on July 14, 2015 (80 FR 41095 and 80 FR 41097), the NRC approved direct license transfers for Brunswick and Harris. These amendments reflect the direct transfer of the licenses of the percent of ownership from North Carolina Eastern Municipal Power Agency to Duke Energy Progress, Inc., keeping Duke Energy as the sole owner and licensee.

Date of issuance: July 31, 2015.

Effective date: As of the date of issuance and shall be implemented within 30 days of issuance.

Amendment Nos.: 267 for Brunswick, Unit 1, 295 for Unit 2, and 147 for Harris, Unit 1. Publicly-available versions of the Brunswick and Harris amendments are in ADAMS under Accession No. ML15161A121, and the orders are in ADAMS under Accession Nos. ML15159A602 and ML15159A617, respectively. Documents related to these amendments are listed in the safety evaluation (SE) enclosed with the order dated July 6, 2015. Subsequent to the issuance of the orders, the licensee submitted a letter dated July 29, 2015 (ADAMS Accession No. ML15210A049). The letter provided additional notifications of regulatory approvals and the closing transaction date, as required by the order.

Renewed Facility Operating License Nos. DPR-71, DPR-62, and NPF-63: The amendments revised the Renewed Facility Operating Licenses.

Date of initial notices in Federal Register: April 21, 2015 (80 FR 22224 and 22228). The supplemental letters dated June 1, 2015; June 10, 2015; June 24, 2015; and July 29, 2015, provided additional information that clarified the application, did not expand the scope of the application as originally noticed, and did not change the staff's original proposed no significant hazards consideration determination as published in the Federal Register.

The Commission's related evaluation of the amendments is contained in an SE dated July 6, 2015 (ADAMS No. ML15159A632).

No significant hazards consideration comments received: No.

Duke Energy Carolinas, LLC, Docket Nos. 50-269, 50-270, and 50-287, Oconee Nuclear Station, Units 1, 2, and 3, Oconee County, South Carolina

Date of amendment request: September 18, 2014.

Brief description of amendments: The amendments revise the Technical Specifications to define a new time limit for restoring inoperable Reactor Coolant System (RCS) leakage detection instrumentation to operable status and establish alternate methods of monitoring RCS leakage when one or more required monitors are inoperable in accordance with Technical Specifications Task Force Traveler 513, Revision 3, “Revise Pressurized-Water Reactor Operability Requirements and Actions for Reactor Coolant System Leakage Instrumentation.”

Date of issuance: July 27, 2015.

Effective date: As of the date of issuance and shall be implemented within 120 days.

Amendment Nos.: 394 for Unit 1, 396 for Unit 2, and 395 for Unit 3. A publicly-available version is in ADAMS under Accession No. ML15170A055; documents related to these amendments are listed in the Safety Evaluation enclosed with the amendments.

Facility Operating License Nos. DPR-38, DPR-47, and DPR-55: The amendments revised the Facility Operating License and Technical Specifications.

Date of initial notice in Federal Register: May 26, 2015 (80 FR 30100).

The Commission's related evaluation of the amendments is contained in a Safety Evaluation dated July 27, 2015.

No significant hazards consideration comments received: No.

Entergy Gulf States Louisiana, LLC, and Entergy Operations, Inc., Docket No. 50-458, River Bend Station, Unit 1 (RBS), West Feliciana Parish, Louisiana

Date of amendment request: July 9, 2014, as supplemented by letters dated February 24, June 3, and July 16, 2015.

Brief description of amendment: The amendment revised the RBS Technical Specifications (TSs) Surveillance Requirements (SRs) related to the steady state voltage, frequency and test load limits for the emergency diesel generators Diesel Generator (DG) 1A, DG 1B and DG 1C. Specifically, the amendment revised the SR Acceptance Criteria Tolerance Band (ACTB) for TS SRs 3.8.1.2, 3.8.1.3, 3.8.1.7, 3.8.1.10, 3.8.1.11, 3.8.1.12, 3.8.1.14, 3.8.1.15, 3.8.1.19 and 3.8.1.20. The changes will lower the upper bound of the frequency SR ACTB, lower the upper bound of the voltage SR ACTB for DG 1A and DG 1B (existing DG 1C voltage SR ACTB is retained), and raise the lower bound of the test load SR ACTB.

Date of issuance: July 30, 2015.

Effective date: As of the date of issuance and shall be implemented 60 days from the date of issuance.

Amendment No.: 187. A publicly-available version is in ADAMS under Accession No. ML15187A127; documents related to this amendment are listed in the Safety Evaluation enclosed with the amendment.

Facility Operating License No. NPF-47: The amendment revised the Facility Operating License and Technical Specifications.

Date of initial notice in Federal Register: November 12, 2014 (79 FR 67201). The supplements dated February 24, June 3, and July 16, 2015, provided additional information that clarified the application, did not expand the scope of the application as originally noticed, and did not change the staff's original proposed no significant hazards consideration determination as published in the Federal Register.

The Commission's related evaluation of the amendment is contained in a Safety Evaluation dated July 30, 2015.

No significant hazards consideration comments received: No.

Entergy Operations, Inc., Docket No. 50-382, Waterford Steam Electric Station, Unit 3, St. Charles Parish, Louisiana

Date of amendment request: October 1, 2014, as supplemented by letter dated February 2, 2015.

Brief description of amendment: The amendment relocated Technical Specification (TS) 3/4.9.6, “Refueling Machine,” and TS 3/4.9.7, “Crane Travel—Fuel Handling Building,” to the Technical Requirements Manual.

Date of issuance: July 29, 2015.

Effective date: As of the date of issuance and shall be implemented 60 days from the date of issuance.

Amendment No.: 243. A publicly-available version is in ADAMS under Accession No. ML15174A227; documents related to this amendment are listed in the Safety Evaluation enclosed with the amendment.

Facility Operating License No. NPF-38: The amendment revised the Facility Operating License and Technical Specifications.

Date of initial notice in Federal Register: March 3, 2015 (80 FR 11475). The supplemental letter dated February 2, 2015, provided additional information that clarified the application, did not expand the scope of the application as originally noticed, and did not change the NRC staff's original proposed no significant hazards consideration determination as published in the Federal Register.

The Commission's related evaluation of the amendment is contained in a Safety Evaluation dated July 29, 2015.

No significant hazards consideration comments received: No.

Exelon Generation Company, LLC, Docket Nos. STN 50-456, STN 50-457 and 72-73, Braidwood Station, Units 1 and 2, Will County, Illinois

Exelon Generation Company, LLC, Docket Nos. STN 50-454, STN 50-455 and 72-68, Byron Station, Unit Nos. 1 and 2, Ogle County, Illinois

Exelon Generation Company, LLC, Docket No. 50-461, Clinton Power Station, Unit No. 1, DeWitt County, Illinois

Exelon Generation Company, LLC, Docket Nos. 50-10, 50-237, 50-249 and 72-37, Dresden Nuclear Power Station, Units 1, 2 and 3, Grundy County, Illinois

Exelon Generation Company, LLC, Docket Nos. 50-373, 50-374 and 72-70, LaSalle County Station, Units 1 and 2, LaSalle County, Illinois

Exelon Generation Company, LLC, Docket Nos. 50-352, 50-353 and 72-65, Limerick Generating Station, Unit 1 and 2, Montgomery County, Pennsylvania

Exelon Generation Company, LLC, et al., Docket No. 50-219 and 72-15, Oyster Creek Nuclear Generating Station, Ocean County, New Jersey

Exelon Generation Company, LLC, and PSEG Nuclear LLC, Docket Nos. 50-171, 50-277, 50-278 and 72-29, Peach Bottom Atomic Power Station, Units 1, 2 and 3, York and Lancaster Counties, Pennsylvania

Exelon Generation Company, LLC, Docket Nos. 50-254, 50-265 and 70-53, Quad Cities Nuclear Power Station, Units 1 and 2, Rock Island County, Illinois

Exelon Generation Company, LLC, Docket No. 50-289, Three Mile Island Nuclear Station, Unit 1, Dauphin County, Pennsylvania

Exelon Generation Company, LLC, Docket No. 50-320, Three Mile Island Nuclear Station, Unit 2, Dauphin County, Pennsylvania

Date of amendment request: May 30, 2014, as supplemented by letters dated March 2 and June 5, 2015.

Brief description of amendments: The amendments revised the Emergency Plans for the affected facilities to adopt the Nuclear Energy Institute's (NEl's) revised Emergency Action Level (EAL) schemes described in NEI 99-01, Revision 6, “Development of Emergency Action Levels for Non-Passive Reactors.”

Date of issuance: July 28, 2015.

Effective date: As of the date of issuance and shall be implemented on or before April 29, 2016.

Amendment Nos.: 184, 184, 190, 190, 205, 45, 245, 238, 215, 201, 217, 179, 287, 13, 300, 303, 258, 253, and 287. A publicly-available version is in ADAMS under Accession No. ML15141A058; documents related to these amendments are listed in the Safety Evaluation enclosed with the amendments.

Facility Operating License Nos. NPF-72, NPF-77, NPF-37, NPF-66, NPF-62, DPR-2, DPR-19, DPR-25, NPF-11, NPF-18, NPF-39, NPF-85, DPR-16, DPR-12, DPR-44, DPR-56, DPR-29, DPR-30, and DPR-50: The amendments revised the Emergency Plans.

Date of initial notice in Federal Register: September 16, 2014 (79 FR 55511). The supplemental letters dated March 2 and June 5, 2015, provided additional information that clarified the application, did not expand the scope of the application as originally noticed, and did not change the staff's original proposed no significant hazards consideration determination as published in the Federal Register.

The Commission's related evaluation of the amendments is contained in a Safety Evaluation dated July 28, 2015.

No significant hazards consideration comments received: No from Pennsylvania and New Jersey, and Yes from the state of Illinois. The Safety Evaluation dated July 28, 2015, provides the discussion of the comments received from the State of Illinois.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Exelon Generation Company, LLC, Docket Nos. 50-317 and 50-318, Calvert Cliffs Nuclear Power Plant, Unit Nos. 1 and 2, Calvert County, Maryland

Exelon Generation Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket No. 50-352 and No. 50-353, Limerick Generating Station, Unit 1 and 2, Montgomery County, Pennsylvania

Exelon Generation Company, LLC, Docket Nos. 50-220 and 50-410, Nine Mile Point Nuclear Station, Units 1 and 2, Oswego County, New York

Exelon Generation Company, LLC, et al., Docket No. 50-219, Oyster Creek Nuclear Generating Station, Ocean County, New Jersey

Exelon Generation Company, LLC, and PSEG Nuclear LLC, Docket Nos. 50-277 and 50-278, Peach Bottom Atomic Power Station, Units 2 and 3,York and Lancaster Counties, Pennsylvania

Exelon Generation Company, LLC, Docket Nos. 50-254 and 50-265, Quad Cities Nuclear Power Station, Units 1 and 2, Rock Island County, Illinois

Exelon Generation Company, LLC, Docket No. 50-244, R.E. Ginna Nuclear Power Plant, Wayne County, New York

Exelon Generation Company, LLC, Docket No. 50-289, Three Mile Island Nuclear Station, Unit 1, Dauphin County, Pennsylvania

Date of amendment request: August 29, 2014.

Brief description of amendments: The amendments approved the extension of the completion date for Milestone 8 of the Cyber Security Plan implementation schedules.

Date of issuance: July 30, 2015.

Effective date: As of the date of issuance and shall be implemented within 60 days from the date of issuance.

Amendment Nos.: 185, 185, 191, 191, 312, 290, 206, 246, 239, 216, 202, 218, 180, 219, 149, 288, 301, 304, 259, 254, 117, and 288. A publicly-available version is in ADAMS under Accession No. ML15153A282; documents related to these amendments are listed in the Safety Evaluation enclosed with the amendments.

Facility Operating License Nos. NPF-72, NPF-77, NPF-37, NPF-66, DPR-53, DPR-69, NPF- 62, DPR-19, DPR-25, NPF-11, NPF-18, NPF-39, NPF-85, DPR-63, NPF-69, DPR-16, DPR-44, DPR-56, DPR-29, DPR-30, DPR-18, DPR-50: The amendments revised the Licenses.

Date of initial notice in Federal Register: May 5, 2015 (80 FR 25719).

The Commission's related evaluation of the amendments is contained in a Safety Evaluation dated July 30, 2015.

No significant hazards consideration comments received: No.

Exelon Generation Company, LLC, Docket Nos. 50-317 and 50-318, Calvert Cliffs Nuclear Power Plant, Unit Nos. 1 and 2, Calvert County, Maryland

Date of amendment request: January 13, 2014, as supplemented by letters dated November 3, 2014, March 3, 2015, and March 27, 2015.

Brief description of amendments: These amendments revise the Technical Specifications (TSs) to add a new TS 3.7.18, “Atmospheric Dump Valves (ADVs).” The addition of these TSs addresses a degraded or non-conforming condition that was caused by not having TSs for the ADVs.

Date of issuance: July 23, 2015.

Effective date: As of the date of issuance and shall be implemented within 60 days of issuance.

Amendment Nos.: 311 and 289. A publicly-available version is in ADAMS under Accession No. ML15133A144; documents related to these amendments are listed in the Safety Evaluation enclosed with the amendments.

Renewed Facility Operating License Nos. DPR-53 and DPR-69: Amendments revised the Renewed Facility Operating License and TSs.

Date of initial notice in Federal Register: July 22, 2014 (79 FR 42548). The supplemental letters dated November 3, 2014, March 3, 2015, and March 27, 2015, provided additional information that clarified the application, did not expand the scope of the application as originally noticed, and did not change the staff's original proposed no significant hazards consideration determination as published in the Federal Register.

The Commission's related evaluation of the amendment is contained in a Safety Evaluation dated July 23, 2015.

No significant hazards consideration comments received: No.

Exelon Generation Company, LLC, Docket No. 50-317, Calvert Cliffs Nuclear Power Plant, Unit No. 1 (CCNPP1), Calvert County, Maryland

Exelon Generation Company, LLC, Docket No. 50-318, Calvert Cliffs Nuclear Power Plant, Unit No. 2 (CCNPP2), Calvert County, Maryland

Exelon Generation Company, LLC, Docket No. 50-244, R.E. Ginna Nuclear Power Plant (Ginna), Wayne County, New York

Exelon Generation Company, LLC, Docket No. 50-410, Nine Mile Point Nuclear Station, Unit No. 2 (NMP2), Oswego County, New York

Date of amendment request: July 10, 2014, as supplemented by letter dated April 30, 2015.

Brief description of amendment: The amendments revised and added several Technical Specification (TS) surveillance requirements to address concerns discussed in Generic Letter (GL) 2008-01, “Managing Gas Accumulation in Emergency Core Cooling, Decay Heat Removal, and Containment Spray Systems.” These changes are consistent with TS Task Force Traveler (TSTF) 523, Revision 2, GL 2008-01, Managing Gas Accumulation.

Date of issuance: July 30, 2015.

Effective date: As of the date of issuance and shall be implemented within 120 days of issuance.

Amendment No.: CCNPP1-313; CCNPP2-291; Ginna-118; NMP2-150. A publicly-available version of the amendments are in ADAMS under Accession No. ML15161A380; documents related to these amendments are listed in the Safety Evaluation enclosed with the amendments.

Facility Operating License Nos. DPR-53 (CCNPP1), DPR-69 (CCNPP2), DPR-18 (Ginna), and NPF-69 (NMP2): The amendments revised the Facility Operating License and Technical Specifications.

Date of initial notice in Federal Register: May 12, 2015, (80 FR 27197). The supplemental letter dated April 30, 2015, provided additional information that clarified the application, did not expand the scope of the application as originally noticed, and did not change the staff's original proposed no significant hazards consideration determination as published in the Federal Register.

The Commission's related evaluation of the amendment is contained in a Safety Evaluation dated July 30, 2015.

No significant hazards consideration comments received: No.

Exelon Generation Company, LLC, and PSEG Nuclear LLC, Docket Nos. 50-277 and 50-278, Peach Bottom Atomic Power Station, Units 2 and 3, York and Lancaster Counties, Pennsylvania

Date of amendment request: September 3, 2014, as supplemented by letter dated February 9, 2015.

Brief description of amendments: The amendments revised the Technical Specifications to eliminate the main steam line (MSL) radiation monitor from initiating: (1) A reactor protection system automatic reactor scram; and (2) a primary containment isolation system isolation, including automatic closure of the MSL isolation valves, MSL drain valves, MSL sample line valves, residual heat removal system sample line valves, and reactor recirculation loop sample line valves.

Date of issuance: July 28, 2015.

Effective date: As of the date of issuance, to be implemented prior to startup from the fall 2016 refueling outage for Unit 2, and prior to startup from the fall 2015 refueling outage for Unit 3.

Amendments Nos.: 299 and 302. A publicly-available version is in ADAMS under Accession No. ML15167A456; documents related to these amendments are listed in the Safety Evaluation enclosed with the amendments.

Renewed Facility Operating License Nos. DPR-44 and DPR-56: The amendments revised the Facility Operating Licenses and the TSs.

Date of initial notice in Federal Register: November 12, 2014 (79 FR 67201). The supplemental letter dated February 9, 2015, provided additional information that clarified the application, did not expand the scope of the application as originally noticed, and did not change the staff's original proposed no significant hazards consideration determination as published in the Federal Register.

The Commission's related evaluation of the amendments is contained in a Safety Evaluation dated July 28, 2015.

No significant hazards consideration comments received: No.

Exelon Generation Company, LLC, Docket No. 50-289, Three Mile Island Nuclear Station, Unit No. 1, (TMI-1) Dauphin County, Pennsylvania

Date of application for amendments: October 30, 2014, as supplemented by letter dated June 10, 2015.

Brief description of amendment: The amendment revised the TMI-1 Technical Specification Table 3.1.6.1, “Pressure Isolation Check Valves Between the Primary Coolant System & LPIS [Low Pressure Injection System],” maximum allowable leakage limits.

Date of issuance: July 28, 2015.

Effective date: As of the date of issuance and shall be implemented within 30 days.

Amendment Nos.: 286. A publicly-available version is in ADAMS under Accession No. ML15090A584; documents related to this amendment are listed in the Safety Evaluation enclosed with the amendment.

Renewed Facility Operating License No. DPR-50: The amendment revised the Facility Operating License and Technical Specifications.

Date of initial notice in Federal Register: December 9, 2014 (79 FR 73110). The supplemental letter dated June 10, 2015, provided additional information that clarified the application, did not expand the scope of the application as originally noticed, and did not change the staff's original proposed no significant hazards consideration determination as published in the Federal Register.

The Commission's related evaluation of the amendment is contained in a Safety Evaluation dated July 28, 2015.

No significant hazards consideration comments received: No.

Florida Power & Light Company, Docket Nos. 50-250 and 50-251, Turkey Point Nuclear Generating Unit Nos. 3 and 4, Miami-Dade County, Florida

Date of application for amendments: July 8, 2014, as supplemented by letter dated July 15, 2015.

Brief description of amendments: The amendments revised the Technical Specifications (TSs) by modifying or adding surveillance requirements to verify that system locations susceptible to gas accumulation are sufficiently filled with water and to provide allowances that permit performance of the verification. The changes address NRC Generic Letter 2008-01, “Managing Gas Accumulation in Emergency Core Cooling, Decay Heat Removal, and Containment Spray Systems” (ADAMS Accession No. ML072910759), as described in Revision 2 of Technical Specification Task Force-523, “Generic Letter 2008-01, Managing Gas Accumulation” (ADAMS Accession No. ML13053A075).

Date of issuance: July 27, 2015.

Effective date: As of the date of issuance and shall be implemented within 120 days of issuance.

Amendment Nos.: 264 and 259. The amendments are in ADAMS under Accession No. ML15181A179; documents related to these amendments are listed in the Safety Evaluation enclosed with the amendments.

Renewed Facility Operating License Nos. DPR-31 and DPR-41: Amendments revised the TSs.

Date of initial notice in Federal Register: October 14, 2014 (79 FR 61661). The licensee's supplemental letter dated July 15, 2015, did not expand the scope of the application as originally noticed and did not change the staff's original proposed no significant hazards consideration determination as published in the Federal Register.

The Commission's related evaluation of the amendments is contained in a Safety Evaluation dated July 27, 2015.

No significant hazards consideration comments received: No.

NextEra Energy, Point Beach, LLC, Docket Nos. 50-266 and 50-301, Point Beach Nuclear Plant Units 1 and 2, Town of Two Creeks, Manitowoc County, Wisconsin

Date of amendment request: July 3, 2014, as supplemented by letters dated December 8, 2014; March 19, 2015; and May 28, 2015.

Brief description of amendments: The amendments revised the Technical Specifications (TSs) for Units 1 and 2 to relocate surveillance frequencies to licensee control as per Technical Specifications Task Force Traveler-425, Revision 3.

Date of issuance: July 28, 2015.

Effective date: As of the date of issuance and shall be implemented within 90 days of issuance.

Amendment Nos.: 253 and 257. Publicly-available versions are in ADAMS under Accession No. ML15195A201; documents related to these amendments are listed in the Safety Evaluation enclosed with the amendments.

Renewed Facility Operating License Nos. DPR-24 and DPR-27: Amendments revised the Facility Operating Licenses and TSs.

Date of initial notice in Federal Register: November 12, 2014 (79 FR 67203). The supplemental letters dated December 8, 2014; March 19, 2015; and May 28, 2015, provided additional information that clarified the application, did not expand the scope of the application as originally noticed, and did not change the staff's original proposed no significant hazards consideration determination as published in the Federal Register.

The Commission's related evaluation of the amendments is contained in a Safety Evaluation dated July 28, 2015.

No significant hazards consideration comments received: No.

PSEG Nuclear LLC, Docket Nos. 50-272 and 50-311, Salem Nuclear Generating Station (Salem), Unit Nos. 1 and 2, Salem County, New Jersey

Date amendment request: July 28, 2014, as supplemented by letter dated January 15, 2015.

Brief description of amendments: The amendments revised the technical specification (TS) requirements regarding steam generator tube inspections and reporting as described in Technical Specifications Task Force (TSTF) Change Traveler TSTF-510, Revision 2, “Revision to Steam Generator Program Inspection Frequencies and Tube Sample Selection.” In addition, the amendments revise the Salem, Unit No. 2 TSs 6.8.4.i, “Steam Generator (SG) Program,” and TS 6.9.1.10, “Steam Generator Tube Inspection Report,” to remove unnecessary information related to the original Salem, Unit No. 2 Westinghouse steam generators.

Date of issuance: July 30, 2015.

Effective date: As of the date of issuance and shall be implemented within 60 days.

Amendment Nos.: 309 and 291. A publicly-available version is in ADAMS under Accession No. ML15153A230; documents related to these amendments are listed in the Safety Evaluation enclosed with the amendments.

Renewed Facility Operating License Nos. DPR-70 and DPR-75: The amendments revised the facility operating license and TSs.

Date of initial notice in Federal Register: October 28, 2014 (79 FR 64227). The supplemental letter dated January 15, 2015, provided additional information that clarified the application, did not expand the scope of the application as originally noticed, and did not change the staff's original proposed no significant hazards consideration determination as published in the Federal Register.

The Commission's related evaluation of the amendments is contained in a safety evaluation dated July 30, 2015.

No significant hazards consideration comments received: No.

South Carolina Electric & Gas Company, Docket Nos. 52-027 and 52-028, Virgil C. Summer Nuclear Station, Units 2 and 3, Fairfield County, South Carolina

Date of amendment request: September 11, 2014, and supplemented by letters dated October 15, 2014 and December 18, 2014.

Description of amendment: The amendment revises the Updated Final Safety Analysis Report by clarifying human diversity during the lifecycle development design process for the Component Interface Module and Diverse Actuation System.

Date of issuance: July 17, 2015.

Effective date: As of the date of issuance and shall be implemented within 90 days of issuance.

Amendment No.: 28. A publicly-available version is in ADAMS under Accession No. ML15176A703; documents related to this amendment are listed in the Safety Evaluation enclosed with the amendment.

Facility Combined Licenses No. NPF-93 and NPF-94: Amendment revised the Facility Combined Licenses.

Date of initial notice in Federal Register: December 9, 2014 (79 FR 73111). The supplemental letters dated October 15, 2014 and December 18, 2014, provided additional information that clarified the application, did not expand the scope of the application as originally noticed, and did not change the staff's original proposed no significant hazards consideration determination as published in the Federal Register.

The Commission's related evaluation of the amendment is contained in the Safety Evaluation dated July 17, 2015.

No significant hazards consideration comments received: No.

South Carolina Electric and Gas Company, Docket Nos. 52-027 and 52-028, Virgil C. Summer Nuclear Station, Units 2 and 3 (VCSNS), Fairfield County, South Carolina

Date of amendment request: January 27, 2015.

Brief description of amendment: The amendments are to Combined License Nos. NPF-93 and NPF-94 for VCSNS Units 2 and 3. The amendments revise the VCSNS Units 2 and 3 Updated Final Safety Analysis Report (UFSAR) to clarify a human factors engineering operational sequence analysis related to the AP1000 Automatic Depressurization System and delete document WCAP-15847, “AP1000 Quality Assurance Procedures Supporting NRC Review of AP1000 DCD Sections 18.2 and 18.8,” that is incorporated by reference into the UFSAR. Both of the amendments constitute changes to information identified as Tier 2* information as defined in 10 CFR part 52, appendix D, section II.F.

Date of issuance: June 2, 2015.

Effective date: As of the date of issuance and shall be implemented within 30 days of issuance.

Amendment No.: 26. A publicly-available version is in ADAMS under Accession No. ML15131A445; documents related to this amendment are listed in the Safety Evaluation enclosed with the amendment.

Facility Combined Licenses No. NPF-93 and NPF-94: Amendment revised the Facility Combined Licenses.

Date of initial notice in Federal Register: March 17, 2015 (80 FR 13912).

The Commission's related evaluation of the amendment is contained in a Safety Evaluation dated June 2, 2015.

No significant hazards consideration comments received: No.

Southern Nuclear Operating Company, Inc., Docket Nos. 50-348 and 50-364, Joseph M. Farley Nuclear Plant (Farley), Units 1 and 2, Houston County, Alabama

Southern Nuclear Operating Company, Inc., Docket Nos. 50-424 and 50-425, Vogtle Electric Generating Plant (VEGP), Units 1 and 2, Burke County, Georgia

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of application for amendment: December 30, 2014.

Brief description of amendments: The amendments revise the date of the full implementation of the Cyber Security Plans.

Date of issuance: August 3, 2015.

Effective date: As of its date of issuance and shall be implemented within 30 days from the date of issuance.

Amendment Nos.: Farley Unit 1-199, Farley Unit 2-195, VEGP Unit 1-175, VEGP Unit 2-157, Hatch Unit 1-274, and Hatch Unit 2-219. A publicly-available version is in ADAMS under Accession No. ML15180A334, documents related to these amendments are listed in the Safety Evaluation enclosed with the amendments.

Facility Operating License Nos. NPF-2, NPF-8, NPF-68, NPF-81, DPR-57, NPF-5: The amendments revised the Renewed Facility Operating Licenses.

Date of initial notice in Federal Register: March 3, 2015 (80 FR 11492).

The Commission's related evaluation of the amendments is contained in a Safety Evaluation dated August 3, 2015.

No significant hazards consideration comments received: No.

Virginia Electric and Power Company, Docket Nos. 50-338 and 50-339, North Anna Power Station, Units 1 and 2, Louisa County, Virginia

Date of application for amendment: August 27, 2014, as supplemented by letter dated February 16, 2015.

Brief description of amendment: The license amendments approved the changes to the Technical Specification (TS) 3.4.3, “[Reactor Coolant System] RCS Pressure and Temperature (P-T) Limits” to address vacuum fill operations of the RCS to meet the requirements of 10 CFR part 50, appendix G. Specifically, this will revise TS figures 3.4.3-1 and 3.4.3-2, RCS Heatup and Cooldown Limitations respectively.

Date of issuance: July 27, 2015.

Effective date: As of the date of issuance and shall be implemented within 60 days from the date of issuance.

Amendment Nos.: 275 and 257. A publicly-available version is in ADAMS under Accession No. ML15187A424; documents related to these amendments are listed in the Safety Evaluation enclosed with the amendments.

Renewed Facility Operating License Nos. NPF-4 and NPF-7: Amendments revised the Facility Operating License and Technical Specifications.

Date of initial notice in Federal Register: October 14, 2014, (79 FR 61663). The supplemental letter dated February 16, 2015, provided additional information that clarified the application, did not expand the scope of the application as originally noticed, and did not change the staff's original proposed no significant hazards consideration determination.

The Commission's related evaluation of the amendments is contained in a Safety Evaluation dated July 27, 2015.

No significant hazards consideration comments received: No.

Wolf Creek Nuclear Operating Corporation, Docket No. 50-482, Wolf Creek Generating Station, Coffey County, Kansas

Date of amendment request: November 20, 2014, as supplemented by letters dated March 18 and May 4, 2015.

Brief description of amendment: The amendment revised the Technical Specification (TS) requirements to address NRC Generic Letter 2008-01, “Managing Gas Accumulation in Emergency Core Cooling, Decay Heat Removal, and Containment Spray Systems,” as described in Technical Specification Task Force (TSTF) Traveler TSTF-523, Revision 2, “Generic Letter 2008-01, Managing Gas Accumulation.”

Date of issuance: July 28, 2015.

Effective date: As of its date of issuance and shall be implemented within 90 days of the date of issuance.

Amendment No.: 212. A publicly-available version is in ADAMS under Accession No. ML15169A213; documents related to this amendment are listed in the Safety Evaluation enclosed with the amendment.

Renewed Facility Operating License No. NPF-42. The amendment revised the Operating License and Technical Specifications.

Date of initial notice in Federal Register: March 31, 2015 (80 FR 17105). The supplemental letters dated March 18 and May 4, 2015, provided additional information that clarified the application, did not expand the scope of the application as originally noticed, and did not change the staff's original proposed no significant hazards consideration determination as published in the Federal Register.

The Commission's related evaluation of the amendment is contained in a Safety Evaluation dated July 28, 2015.

No significant hazards consideration comments received: No.

Dated at Rockville, Maryland, this 10th day of August 2015.
For the Nuclear Regulatory Commission.
A. Louise Lund,
Acting Director, Division of Operating Reactor Licensing, Office of Nuclear Reactor Regulation.

[FR Doc. 2015-20138 Filed 8-13-15; 8:45 am]

BILLING CODE 7590-01-P